DEPARTMENT OF TRANSPORTATION

Federal Aviation Administration

14 CFR Part 71

[Docket No. FAA-2022-0906; Airspace Docket No. 21-ASO-27]

RIN 2120-AA66

Amendment and Establishment of Area Navigation (RNAV) Routes; Eastern United States

AGENCY: Federal Aviation Administration (FAA), DOT.

ACTION: Final rule.

SUMMARY: This action amends three low altitude Area Navigation (RNAV) routes (T-routes) and establishes five T-routes in support of the VHF Omnidirectional Range (VOR) Minimum Operational Network (MON) Program. The purpose is to enhance the efficiency of the National Airspace System (NAS) by transitioning from ground-based navigation aids to a satellite-based navigation system.

DATES: Effective date 0901 UTC, February 23, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

History

The FAA published a notice of proposed rulemaking for Docket No. FAA-2022-0906, in the Federal Register (87 FR 44035; July 25, 2022). Interested parties were invited to participate in this rulemaking effort by submitting written comments on the proposal. No comments were received.

United States RNAV T-routes are published in paragraph 6011 of FAA Order JO 7400.11G, dated August 19, 2022, and effective September 15, 2022, which is incorporated by reference in 14 CFR 71.1. The RNAV routes listed in this document will be subsequently published in FAA Order JO 7400.11.

Differences From the NPRM

Subsequent to the publication of the NPRM, the FAA determined that additional planning and coordination were required before implementing changes to RNAV routes T-255 and T-393. These routes are removed from this rule and will be processed by another docket action at a later date.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

This action amends 14 CFR part 71 by amending three low altitude RNAV T-routes, and establishing five T-routes in the eastern United States to support the VOR MON Program, and the transition of the NAS from ground-based navigation aids to satellite-based navigation. The route changes are described below.

T-209: T-209 extends from the EHEJO, GA, Fix, to the Colliers, SC (IRQ), VHF Omnidirectional Range and Tactical Air Navigational System (VORTAC). This action deletes the existing segments of the route. Instead, T-209 is realigned to the east of its current track to overlay VOR Federal airway V-185 from the Savannah, GA (SAV), VORTAC, to the Sugarloaf, NC (SUG), VORTAC. The TBERT, SC, Waypoint (WP) replaces the Savannah VORTAC. The WANSA, SC, WP replaces the Colliers VORTAC. The HRTWL, SC, WP replaces the Greenwood, SC (GRD), VORTAC. The STYLZ, NC, WP replaces the Sugarloaf VORTAC. As amended, T-209 extends from the TBERT, SC, WP; MILEN, GA, Fix; WANSA, SC, WP; HRTWL, SC, WP, to the STYLZ, NC, WP.

T-239: T-239 extends from the Pecan, GA (PZD), VHF Omnidirectional Range/Distance Measuring Equipment (VOR/DME) to the GOINS, MS, WP. This action replaces the Pecan VOR/DME with the PCANN, GA, WP. The TYGRR, AL, WP replaces the Eufaula, AL (EUF), VORTAC. The Tuskegee, AL, VOR/DME and the ADZIN, AL, Fix are removed from the route. The following points area also removed from the route legal description because they do not mark a turn point: SHANY, GA, Fix; AYUVO, GA, Fix; AXOSE, GA, Fix; MILER, AL, Fix; KENTT, AL, Fix; SEMAN, AL, Fix; NIXBY, AL, Fix; FAYEZ, AL, Fix; KYLEE, AL, Fix: ADZIN, AL, Fix; HANDE, AL, Fix; NEGEE, AL, Fix; CORES, AL, Fix; CHOOK, AL, Fix; EXIST, AL, Fix; GANTT, MS, Fix; and ICAVY, MS, Fix. Removing these points does not affect the alignment of T-239. As amended, T-239 extends from PCANN, GA, to GOINS, MS.

T-292: T-292 extends from the Semmes, AL (SJI), VORTAC to the JACET, GA, WP. This action replaces the Semmes VORTAC in the route description with the LYNRD, AL, WP. The Brookwood, AL (OKW), VORTAC is replaced in the route description by the DAYVS, AL, WP (located 2.41 nautical miles (NM) east of the VORTAC position). As a result, the route segment between the MOVIL, AL, Fix, and the VLKNN, AL, WP is shifted slightly east of the current track by less than 2 NM. Additionally, the following points are removed from the legal description because they do not mark a turn point: BURIN. AL, Fix; HAZEY, AL, Fix; YARBO, AL, Fix; JANES, AL, Fix, EUTAW, AL, Fix; MOVIL, AL, Fix; HOKES, AL, Fix; POLLL, GA, WP; and REELL, GA, WP. As amended, T-292 extends from LYNRD, AL, to JACET, GA.

T-424: T-424 is a new route that extends from the SMRRF, TN, WP, to the DBRAH, VA, WP. The route overlays VOR Federal airway V-16 from the Shelbyville, TN (SYI), VOR/DME to the Roanoke, VA (ROA), VOR/DME. In the description of T-424, WPs replace the following navigation aids as indicated: the SMRRF, TN, WP replaces the Shelbyville, TN (SYI), VOR/DME; the TMPSN, TN, WP replaces the Hinch Mountain, TN (HCH), VOR/DME; the EDDDY, TN, WP replaces the Volunteer, TN (VXV), VORTAC; the HORAL, TN, WP replaces the Holston Mountain, TN (HMV), VORTAC; the DANCO, VA, WP replaces the Pulaski, VA (PSK), VORTAC; and the DBRAH, VA, WP replaces the Roanoke, VA (ROA), VOR/DME.

T-426: T-426 is a new route that extends from the DANCO, VA, WP, to the MCDON, VA, WP. The route overlays VOR Federal airway V-136 from the Pulaski, VA (PSK), VORTAC, to the South Boston, VA (SBV), VORTAC. In the route description, the DANCO WP replaces the Pulaski VORTAC; and the MCDON, VA, WP replaces the South Boston VORTAC.

T-437: T-437 is a new route that extends from the SIROC, GA, WP, to the ZOOMS, WV, Fix. The route overlays VOR Federal airway V-37 from the Brunswick, GA (SSI), VORTAC to the ZOOMS Fix. In the T-437 route description, the following navigation aids are replaced by WPs as indicates: the SIROC WP replaces the Brunswick, GA (SSI), VORTAC; the TBERT, SC, WP replaces the Savannah, GA (SAV), VORTAC; the DURBE, SC, WP replaces the Allendale, SC (ALD), VOR; the CAYCE, SC, WP replaces the Columbia, SC (CAE), VORTAC; the CRLNA, NC, WP replaces the Charlotte, NC (CLT), VOR/DME; and the DANCO, VA, WP replaces the Pulaski, VA (PSK), VORTAC.

T-439: T-439 is a new route that extends from the PIGON, AL, Fix, to the HITMAN, TN, WP. The PIGON Fix is located approximately 36 NM northeast of the Monroeville, AL (MVC), VORTAC. The HITMAN WP is located near the Nashville, TN (BNA), VORTAC.

T-441: T-441 is a new route that extends from the TROPP, SC, WP to the PENCE, TN, WP. The TROPP WP is being used in place of the Charleston, SC (CHS), VORTAC. The PENCE WP is located 19 NM northeast of the Volunteer, TN (VXV), VORTAC. T-441 overlays VOR Federal airway V-53 from the Charleston, SC (CHS), VORTAC, to the Sugarloaf Mountain, NC (SUG), VORTAC; and overlays VOR Federal airway V-185 from Sugarloaf Mountain to PENCE, TN. In the route description, WPs are used in place of navigation aids as follows: the CAYCE, SC, WP replaces the Columbia, SC (CAE), VORTAC; the BURGG, SC, WP replaces the Spartanburg, SC (SPA), VORTAC; the STYLZ, NC, WP replaces the Sugarloaf Mountain VORTAC; and the PUPDG, NC, WP replaces the Snowbird, TN (SOT), VORTAC.

Full descriptions of the above T routes are listed in the amendments to part 71 set forth below.

United States RNAV T-routes are published in paragraph 6011 of FAA Order JO 7400.11G, dated August 19, 2022, and effective September 15, 2022, which is incorporated by reference in 14 CFR 71.1. The RNAV routes listed in this document would be subsequently published in FAA Order JO 7400.11.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending three low altitude United States Area Navigation (RNAV) T routes, and establishing five T routes, as described above, in support of efforts transitioning the NAS from ground-based to satellite-based navigation, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6011 United States Area Navigation Routes

* * * * *

T-209 TBERT, SC to STYLZ, NC [Amended]
TBERT, SC | WP | (Lat. 32°08′46.76″ N, long. 081°11′57.44″ W)
MILEN, GA | FIX | (Lat. 32°54′02.88″ N, long. 081°36′33.99″ W)
WANSA, SC | WP | (Lat. 33°42′26.10″ N, long. 082°09′43.99″ W)
HRTWL, SC | WP | (Lat. 34°15′05.33″ N, long. 082°09′15.55″ W)
STYLZ, NC | WP | (Lat. 35°24′22.83″ N, long. 082°16′07.01″ W)
* * * * * * *
T-239 PCANN, GA to GOINS, MS [Amended]
PCANN, GA | WP | (Lat. 31°39′18.97″ N, long. 084°17′35.80″ W)
TYGRR, AL | WP | (Lat. 31°57′01.21″ N, long. 085°07′49.13″ W)
VLKNN, AL | WP | (Lat. 33°40′12.49″ N, long. 086°53′59.42″ W)
FOGUM, AL | FIX | (Lat. 34°06′25.32″ N, long. 087°49′24.16″ W)
SWIKI, AL | WP | (Lat. 34°11′55.87″ N, long. 088°00′42.44″ W)
GOINS, MS | WP | (Lat. 34°46′12.64″ N, long. 089°29′46.81″ W)
* * * * * * *
T-292 LYNRD, AL to JACET, GA [Amended]
LYNRD, AL | WP | (Lat. 30°43′33.26″ N, long. 088°21′34.07″ W)
ANTUH, AL | FIX | (Lat. 31°33′10.56″ N, long. 088°25′36.47″ W)
KWANE, MS | WP | (Lat. 32°22′00.47″ N, long. 088°27′29.43″ W)
DAYVS, AL | WP | (Lat. 33°14′03.93″ N, long. 087°12′07.88″ W)
VLKNN, AL | WP | (Lat. 33°40′12.49″ N, long. 086°53′59.42″ W)
MAYES, AL | FIX | (Lat. 33°58′20.32″ N, long. 085°49′15.34″ W)
RKMRT, GA | WP | (Lat. 34°03′36.73″ N, long. 085°15′02.63″ W)
CCATT, GA | WP | (Lat. 34°16′14.97″ N, long. 084°09′05.36″ W)
TRREE, GA | WP | (Lat. 33°47′14.78″ N, long. 082°55′30.22″ W)
JACET, GA | WP | (Lat. 33°29′41.42″ N, long. 082°06′27.81″ W)
* * * * * * *
T-424 SMRRF, TN to DBRAH, VA [New]
SMRRF, TN | WP | (Lat. 35°33′43.23″ N, long. 086°26′20.24″ W)
TMPSSN, TN | WP | (Lat. 35°46′51.54″ N, long. 084°58′43.15″ W)
EDDDY, TN | WP | (Lat. 35°54′17.33″ N, long. 083°53′41.72″ W)
CRECY, TN | WP | (Lat. 35°58′52.61″ N, long. 083°38′24.36″ W)
PENCE, TN | WP | (Lat. 36°01′09.80″ N, long. 083°31′26.31″ W)
HORAL, TN | WP | (Lat. 36°26′13.99″ N, long. 082°07′46.48″ W)
DANCO, VA | WP | (Lat. 37°05′15.75″ N, long. 080°42′46.45″ W)
DBRAH, VA | WP | (Lat. 37°20′34.14″ N, long. 080°04′10.75″ W)
* * * * * * *
T-426 DANCO, VA to MCDON, VA [New]
DANCO, VA | WP | (Lat. 37°05′15.75″ N, long. 080°42′46.45″ W)
TABER, VA | WP | (Lat. 37°02′55.04″ N, long. 080°02′55.66″ W)
PIGGS, VA | FIX | (Lat. 36°56′01.81″ N, long. 079°42′40.61″ W)
DUNCE, VA | WP | (Lat. 36°50′52.00″ N, long. 079°29′18.20″ W)
MCDON, VA | WP | (Lat. 36°40′29.56″ N, long. 079°00′52.03″ W)
* * * * * * *
T-437 SIROC, OG to ZOOMS, WV [New]
SIROC, OG | WP | (Lat. 31°03′02.32″ N, long. 081°26′45.89″ W)
KELER, GA | FIX | (Lat. 31°55′07.40″ N, long. 081°11′09.14″ W)
TBERT, SC | WP | (Lat. 32°08′46.76″ N, long. 081°11′57.44″ W)
DURBE, SC | WP | (Lat. 33°00′44.75″ N, long. 081°17′32.69″ W)
CAYCE, SC | WP | (Lat. 33°51′26.13″ N, long. 081°03′14.76″ W)
CRLNA, NC | WP | (Lat. 35°12′49.48″ N, long. 080°56′57.32″ W)
DANCO, VA | WP | (Lat. 37°05′15.75″ N, long. 080°42′46.45″ W)
ZOOMS, WV | FIX | (Lat. 37°28′32.22″ N, long. 080°35′06.70″ W)
* * * * * * *
T-439 PIGON, AL to HITMN, TN [New]
PIGON, AL | FIX | (Lat. 31°33′33.58″ N, long. 086°39′51.18″ W)
PICKS, AK | FIX | (Lat. 31°47′02.35″ N, long. 086°55′03.13″ W)
RABEC, AL | WP | (Lat. 32°16′11.64″ N, long. 086°58′01.67″ W)
WALTY,AL | FIX | (Lat. 33°00′11.43″ N, long. 086°51′29.95″ W)
DAYVS, AL | WP | (Lat. 33°14′03.93″ N, long. 087°12′07.88″ W)
OAKGO, AL | FIX | (Lat. 33°27′13.10″ N, long. 087°14′11.79″ W)
NEGEE, AL | FIX | (Lat. 33°48′12.56″ N, long. 087°10′36.89″ W)
NULLS, AL | WP | (Lat. 34°02′24.50″ N, long. 086°56′17.64″ W)
HITMN, TN | WP | (Lat. 36°08′12.47″ N, long. 086°41′05.25″ W)
* * * * * * *
T-441 TROPP, SC to PENCE, TN [New]
TRROPP, SC | WP | (Lat. 32°53′40.00″ N, long. 080°02′16.59″ W)
CAYCE, SC | WP | (Lat. 33°51′26.13″ N, long. 081°03′14.76″ W)
BURGG, SC | WP | (Lat. 35°02′00.55″ N, long. 081°55′36.86″ W)
STYLZ, NC | WP | (Lat. 35°24′22.83″ N, long. 082°16′07.01″ W)
MUMMI, NC | FIX | (Lat. 35°39′48.60″ N, long. 082°47′30.15″ W)
PUPDG, NC | WP | (Lat. 35°46′30.08″ N, long. 083°03′40.16″ W)
PENCE, TN | WP | (Lat. 36°01′09.80″ N, long. 083°31′26.31″ W)

* * * * *

Issued in Washington, DC, on December 5, 2022.
Scott M. Rosenbloom,
Manager, Airspace Rules and Regulations.

[FR Doc. 2022-26735 Filed 12-9-22; 8:45 am]

BILLING CODE 4910-13-P